DEPARTMENT OF THE INTERIOR

Fish and Wildlife Service

Notice of Availability, Final Restoration Plan

AGENCY: U.S. Fish and Wildlife Service, Department of the Interior.

ACTION: Notice of availability.

SUMMARY: The U.S. Fish and Wildlife Service (Service), on behalf of the Department of the Interior (DOI), as the sole natural resource trustee, announces the release of the Final Restoration Plan (RP) for the Cortese Landfill Superfund Site (Site). As a result of remedial activities and off-Site migration of Site-related contaminants, 1.6 acres of wetlands were destroyed and/or degraded. Adversely affected natural resources include waterfowl, wading birds, hawks, woodpeckers, swallows, migratory songbirds, invertebrates, reptiles, and amphibians. In addition, the section of the Upper Delaware River watershed near the Site hosts the largest population of wintering bald eagles in the Northeast. An embayment of the Delaware River adjacent to the Site provides feeding and/or spawning habitat for forage fish, American shad, striped bass, and American eel. the funds available from this settlement for restoration activities total approximately $85,000. The restoration project selected for implementation in the Final RP involves wet meadow/wetland restoration and protection.

The Final RP presents the preferred alternative consisting of a restoration project that compensates for injuries to natural resources caused by contaminant releases and remedial activities associated with the Site.

ADDRESSES: Requests for copies of the RP may be made to: U.S. Fish and Wildlife Service, New York Field Office, 3817 Luker road, Cortland, New York 13045.

FOR FURTHER INFORMATION CONTACT: Ken Karwowski, Environmental Contaminants Program, U.S. Fish and Wildlife Service, New York Field Office, 3817 Luker Road, Cortland, New York 13045. Interested parties may also contact Mr. Karwowski by telephone at 607-753-9334 or by electronic mail at the following address: Ken_Karwowski@fws.gov for further information.

SUPPLEMENTARY INFORMATION: In May 1996, a natural resource damage settlement was achieved for the Cortese Landfill Superfund Site. The Service, on behalf of the DOI, was the sole settling natural resource Trustee. The funds available from the settlement for restoration activities total approximately $85,000. The RP is being released in accordance with the Comprehensive Environmental Response, Compensation and Liability Act of 1980 as amended, (CERCLA) (42 U.S.C. 9601 et seq.), the Department of the Interior's Natural Resource Damage Assessment Regulations (43 CFR, part 11), and the National Environmental Policy Act (NEPA) 45 U.S.C. 4371 et seq., and 42 CFR part 1500. The Final RP is intended to describe the Trustee's selected alternative to restore natural resources injured as a result of the discharge of hazardous substances at or from the Site.

Based on an evaluation of various restoration alternatives, the preferred alternative consists of a restoration project involving wet meadow/wetland restoration and protection.

Interested members of the public are invited to review the RP. Copies of the RP are available for review at the Service's New York Field Office at 3817 Luker Road, Cortland, New York. Additionally, the RP will be available for review at the following Web site link (http://nyfo.fws.gov/ec/CorteseFRP.pdf). Written comments on the Draft RP were considered and addressed in the Final RP.

Author: The primary author of this notice is Ken Karwowski, U.S. Fish and Wildlife Service, New York Field Office, 3817 Luker Road, Cortland, New York 13045.

Authority: The authority for this action is the Comprehensive Environmental Response, Compensation and Liability Act of 1980, as amended, (CERCLA) (42 U.S.C. 9601 et seq.), and the Department of the Interior's Natural Resource Damage Assessment Regulations found at 43 CFR, part 11.

Dated: April 20, 2007.
Thomas J. Healy,
Acting Regional Director, Region 5, U.S. Fish and Wildlife Service, U.S. Department of the Interior, DOI Authorized Official.

[FR Doc. 07-3282 Filed 7-5-07; 8:45 am]

BILLING CODE 4310-55-M